DEPARTMENT OF DEFENSE

Office of the Secretary

[Docket ID: DOD-2017-HA-0001]

Proposed Collection; Comment Request

AGENCY: Office of the Assistant Secretary of Defense for Health Affairs, DoD.

ACTION: Notice.

SUMMARY: In compliance with the Paperwork Reduction Act of 1995, the Office of the Assistant Secretary of Defense for Health Affairs announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 7, 2017.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Advisory Committee Division, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Assistant Secretary of Defense for Health Affairs, ATTN: Dr. Patrice Robinson-Haley, 7700 Arlington Boulevard, Suite 5101 (CODE: FHP&R), Falls Church, VA 22042-5101, or call (703) 681-8885.

SUPPLEMENTARY INFORMATION: Title; Associated Form; and OMB Number: Researcher Responsibilities Form; OMB Number 0720-0042.

Needs and Uses: The information collection requirement is necessary to document researchers' understanding and acceptance of the regulatory and ethical responsibilities pertaining to including humans as subjects in research. Principal and associate investigators must have the proposed, signed form on file before they may engage in research conducted or supported by entities under the purview of the Under Secretary of Defense for Personnel and Readiness (USD(P&R)).

Affected Public: Federal Government; Business or Other For-Profit; Not-For-Profit Institutions.

Annual Burden Hours: 45.

Number of Respondents: 89.

Responses per Respondent: 1.

Annual Responses: 89.

Average Burden per Response: 30 minutes.

Frequency: On occasion.

The original document is submitted one time per researcher. Once their document is on file, a researcher may reaffirm their commitment every three years electronically if they remain engaged in human subject research.

Dated: January 3, 2017.
Aaron Siegel,
Alternate OSD Federal Register Liaison Officer, Department of Defense.

[FR Doc. 2017-00049 Filed 1-5-17; 8:45 am]

BILLING CODE 5001-06-P